ENVIRONMENTAL PROTECTION AGENCY

[FRL-7827-4]

State Innovation Grant Program, Preliminary Notice and Request for Input on the Development of a Solicitation for Proposals for 2004/2005 Awards

AGENCY: Environmental Protection Agency (EPA).

ACTION: Notice.

SUMMARY: The U.S. Environmental Protection Agency, Office of Policy, Economics and Innovation (OPEI) is giving a preliminary notice of its intention to solicit proposals for a 2004/2005 grant program to support innovation by state environmental regulatory agencies—the “State Innovation Grant Program.” The Agency is also seeking input from State Environmental Regulatory Agencies on the topic areas for the solicitation. In addition, EPA is asking each State Environmental Regulatory Agency to designate a point of contact at the management level (in addition to the Commissioner or Cabinet Secretary level) who should receive further communication about the upcoming solicitation. EPA anticipates publication of a Federal Register notice to announce the availability of the next solicitation within 75 days.

DATES: State Environmental Regulatory Agencies will have 30 days from the date of this pre-announcement notice in the Federal Register publication until November 12, 2004, to respond with: (1) Suggestions for specific topics that should be included under the general subject area of “Innovation in Environmental Permitting Programs” (e.g., topics with 1-2 paragraphs description) for the next solicitation; and (2) point of contact information (name, title, mailing address, telephone and fax numbers, and e-mail address) for the person within the State Environmental Regulatory Agency (in addition to Commissioner or Cabinet Secretaries) who should receive future notices about the State Innovation Grants. We will automatically transmit notice of availability of the solicitation to people in State agencies identified for previous solicitations.

ADDRESSES: Information should be sent to: State Innovation Grant Program; Office of Policy, Economics and Innovation; U.S. Environmental Protection Agency (1807T); 1200 Pennsylvania Ave., NW., Washington, DC 20460. Responses may also be sent by fax to (202-566-2220), addressed to the “State Innovation Grant Program,” or by e-mail to: Innovation_State_Grants@EPA.gov. We encourage e-mail responses. If you have questions about responding to this notice, please contact EPA at this e-mail address or fax number, or you may call Sherri Walker at 202-566-2186. For point of contact information, please provide: name, title, department and agency, street or Post Office address, city, State, zip code, telephone, fax, and e-mail address. EPA will acknowledge all responses it receives to this notice.

SUPPLEMENTARY INFORMATION: Background: In April 2002, EPA issued its plan for future innovation efforts, published as Innovating for Better Environmental Results: A Strategy to Guide the Next Generation of Innovation at EPA (EPA 100-R-02-002; http://www.epa.gov/innovation/strategy/). The Agency's Innovation Strategy presents a framework for environmental innovation consisting of four major elements:

(1) Strengthen EPA's innovation partnerships with States;

(2) Focus on priority environmental issues;

(3) Diversify environmental protection tools and approaches;

(4) Foster a more “innovation-friendly” organizational culture and systems. This assistance program strengthens EPA's partnership with the States by supporting State innovation compatible with the Innovation Strategy. EPA would like to help States build on previous experience and undertake strategic innovation projects that promote larger-scale models for “next generation” environmental protection and promise better environmental results. EPA is interested in funding projects that go beyond a single facility experiment and obtain better results from a program, process, or sector-wide innovation. EPA is particularly interested in innovation that promotes integrated (cross-media) environmental management and is transferable to other States.

In 2002, EPA initiated the State Innovation Grants Program with a competition that asked for State project proposals that would create innovation in environmental permitting programs related to one of the Innovation Strategy's four priority environmental issues: reducing greenhouse gases, reducing smog, improving water quality, and ensuring the long-term integrity of the nations's water infrastructure. In addition, the solicitation encouraged projects that test incentives that motivate “beyond-compliance” environmental performance, or move whole sectors toward improved environmental performance. The 2002 competition resulted in six state innovation project awards. In October 2003, the EPA National Center for Environmental Innovation (NCEI) opened the 2003/2004 competition for projects to be funded in 2004. On April 16, 2004, EPA announced the ten projects that have been selected from this new competition. EPA is currently completing awards to States selected in that competition. For more information on last year's solicitation, the proposals received, and the 2003-04 award decisions, please see the Web site at: http://www.epa.gov/innovation/stategrants.

Request for Input on Solicitation Topics and Priorities: Like the prior two solicitations, the 2004/2005 State Innovation Grant Program competition will seek to strengthen EPA's innovation partnership with States by providing a source of funding to facilitate State efforts to test new models for “next generation” environmental protection that will provide better environmental results, consistent with the goals of EPA's Innovation Strategy.

EPA proposes to retain “innovation in permitting” as the general subject area of the upcoming solicitation as well as the two specific topics under that theme from last year: (1) Support for development of state Environmental Results Programs (ERP); and (2) projects which explore the relationship between Environmental Management Systems (EMS) and permitting (see EPA's Strategy for Determining the Role of EMS in Regulatory Programs at http://www.epa.gov/ems or http://www.epa.gov/ems/policy/EMS_and_the_Reg_Structure_41204F.pdf). EPA believes the general subject of “innovation in permitting” with specific topics of focus makes sense: the prior two solicitations have evidenced a great deal of innovation taking place in state permitting programs; and focusing on a small number of topics within this subject area effectively concentrates the limited resources available for greater strategic impact. EPA proposes to add a third specific topic this year to enhance the focus of eligible projects under the permitting subject area: development and implementation of incentives for environmental performance that goes beyond compliance as part of State leadership and recognition programs. These incentives and their implementation should be transferable to other State performance-based programs and/or the National Environmental Performance Track Program. In addition, EPA may contemplate a very small number of projects otherwise related to the theme of permitting. EPA is asking for State Environmental Regulatory Agencies and other interested parties to provide brief (about 1 paragraph) suggestions about additional innovation topics within the subject of innovation in permitting for possible inclusion in the upcoming solicitation. EPA will continue to encourage project proposals that address the four priority environmental areas identified above (i.e., reducing greenhouse gases; reducing smog; restoring and maintaining water quality; reducing the cost of water and wastewater infrastructure) and use tools (i.e., incentives, information, performance measurement, etc.) highlighted in the Innovation Strategy. State Environmental Regulatory Agency respondents should send their suggestions to EPA by mail, e-mail, or fax as described in the ADDRESSES section above.

Note: These grants will not be applied to the development or demonstration of new environmental technologies, nor will NCEI be looking to fund projects that have as a primary focus the upgrading of information technology systems. Projects would be much less likely to be funded through this State Innovation Grant if agency resources are already available through another agency program.

Competition Limited to the State Environmental Regulatory Agency: The competition will be limited to the principal Environmental Regulatory Agency within each State, although these agencies are encouraged to partner with other agencies within the State that have environmental mandates (e.g., natural resources management, transportation, public health, energy). EPA will accept only one proposal from an individual State and it must be submitted by the principal Environmental Regulatory Agency from that State. States are also encouraged to partner with neighboring States to address cross-boundary issues, to create networks for peer-mentoring, and States are particularly encouraged to consider partnering with Tribal governments in developing projects and proposals. A multi-state or State-Tribal proposal will be accepted in addition to an individual State proposal, but a State may appear in no more than one multi-State or State-Tribal proposal in addition to its individual State proposal.

Request for State to Designate a Primary Point of Contact: EPA asks that each State Environmental Regulatory Agency designate as a primary point-of-contact, a manager who we will add to the EPA notification list for further announcements about the State Innovation Grant Program. We are asking that this name be submitted with the approval of the highest levels of management within an Agency (Secretary, Commissioner, or their deputies) within 30 days after publication of this notice in the FR November 12, 2004. Please submit this information to EPA as described in the ADDRESSES section above.

Open Dialogue: Between now and the completion and release of the solicitation, States are encouraged to discuss potential projects with their EPA Regional contact to ascertain whether the scope of a potential project is suitable for funding under this program. Feel free to contact the appropriate Regional contact and the EPA HQ National Center for Environmental Innovation:

Regional Contacts

George Frantz, U.S. EPA Region I, 1 Congress Street, Suite 1100, Boston, MA 02114-2023, (617) 918-1883, frantz.george@epa.gov, States: ME, NH, VT, MA, CT, RI.

Jennifer Thatcher, U.S. EPA Region 2, 290 Broadway, 26th Floor, New York, NY 10007-1866, (212) 637-3593, thatcher.jennifer@epa.gov, States & Territories: NY, NJ, PR, VI.

Marie Holman, U.S. EPA Region 3, 1650 Arch Street (3EA40), Philadelphia, PA 19103, (215) 814-5463, holman.marie@epa.gov, States: DE, DC, MD, PA, VA, WV.

Melissa Heath, U.S. EPA Region 4, 61 Forsyth Street, SW., Atlanta, GA 30303, (404) 562-8381, heath.melissa@epa.gov, States: AL, FL, GA, KY, MS, NC, SC, TN.

Marilou Martin, U.S. EPA Region 5, B-19J, 77 West Jackson Blvd., Chicago, IL 60604-3507, (312) 353-9660, martin.marilou@epa.gov, States: MN, WI, MI, IL, IN, OH.

David Bond, U.S. EPA Region 6, Fountain Place, Suite 1200, 1445 Ross Avenue, Dallas, TX 75202-2733, (214) 665-6431, bond.david@epa.gov, States: AR, LA, NM, OK, TX.

David Erickson, U.S. EPA Region 7, 901 N. 5th Street, Kansas City, KS 66101, (913) 551-7162, erickson.david@epa.gov, States: KS, MO, NE, IA.

Whitney Trulove-Cranor, U.S. EPA Region 8 (8P-SA), 999 18th Street, Suite 300, Denver, CO 80202-2466, (303) 312-6099, trulove-cranor.whitney@epa.gov, States: CO, MT, ND, SD, UT, WY.

Julie Anderson, U.S. EPA Region 9, 75 Hawthorne Street (SPE-1), San Francisco, CA 94105, (415) 947-4260, anderson.julie@epa.gov, States & Territories: CA, NV, AZ, HI, AS, GU.

Bill Glasser, U.S. EPA Region 10, 1200 Sixth Avenue (ENF-T), Seattle, WA 98101, 206-553-7215, glasser.william@epa.gov, States: AK, ID, OR, WA.

Headquarters Office

State Innovation Grants Program, National Center for Environmental Innovation, Office of the Administrator, U.S. EPA (MC 1807T), 1200 Pennsylvania Ave., NW., Washington, DC 20460, (202) 566-2186, (202) 566-2220 FAX, Innovation_State_Grants@epa.gov.

For courier delivery only: Sherri Walker, U.S. EPA, EPA West Building, room 4214D, 1301 Constitution Ave., NW., Washington, DC 20005.

Opportunity for Focused Pre-Competition Workshop: In addition, prior to this year's solicitation, we are planning to host a series of five “cluster” phone calls with sets of two EPA Regions and all of their States. These conference calls will enable us to offer a two-hour streamlined proposal development workshop to all States prior to our solicitation, and will allow us to answer any questions that the States have prior to the competition, in keeping with Federal requirements that we afford assistance fairly in a competition process. Specific conference call logistics and grant resource information will be provided to each Region and the States as well as being posted on our Web site at http://www.epa.gov/innovation/stategrants. We will probably conduct one conference call (workshop) per week, for five weeks in October, through early November 2004. Workshop summaries, and all other resource materials will be posted on the Web site at http://www.epa.gov/innovation/stategrants. Through this effort, we are hoping to encourage individual States (and/or State-led teams) to submit well-developed pre-proposals that effectively describe in particular how their project will achieve measurable environmental results.

Dated: October 6, 2004.
Elizabeth Shaw,
Director, Office of Environmental Policy Innovation.

[FR Doc. 04-22958 Filed 10-12-04; 8:45 am]

BILLING CODE 6560-50-P